NATIONAL LABOR RELATIONS BOARD

29 CFR Parts 101, 102, 103

RIN 3142-AAO8

Representation Case Procedures

AGENCY: National Labor Relations Board.

ACTION: Proposed rule; notice of meeting.

SUMMARY: The National Labor Relations Board (NLRB or Board) invites interested parties to attend an open meeting with the Board and its staff on July 18, 2011. The Board meeting will be held from 9 a.m. until 4 p.m. The meeting will be held in the Margaret A. Browning Hearing Room (Room 11000), National Labor Relations Board, 1099 14th Street, NW., Washington, DC 20570. During the public meeting, interested persons may share their views on the proposed amendments to the Board's rules governing representation case procedures, published at 76 FR 15307 (June 22, 2011) and make other proposals for improving representation case procedures.

DATES: The meeting will be held on Monday, July 18, 2011, from 9 a.m. to 4 p.m. A second day of meetings may be scheduled for Tuesday, July 19, 2011, if necessary. Due to time and seating considerations, persons desiring to attend the meeting, or to make a presentation before the Board, must notify the NLRB staff, no later than 4 p.m. on Friday, July 1, 2011.

ADDRESSES: The public meeting will be held in the Margaret A. Browning Hearing Room (Room 11000), National Labor Relations Board, 1099 14th Street, NW., Washington, DC 20570. Requests to attend the meeting must be addressed to Mary Meyers, Administrative Assistant to the Chairman, National Labor Relations Board, 1099 14th Street, NW., Suite 11100, Washington, DC 20570. Written requests may also be made electronically to publicmeeting@nlrb.gov. All communications must include the following words on the Subject Line—“Request to Attend Public Meeting Regarding RIN 3142-AA08.”

FOR FURTHER INFORMATION CONTACT: Mary Meyers, Administrative Assistant to the Chairman, National Labor Relations Board, 1099 14th Street, NW., Suite 11100, Washington, DC 20570; Phone: 202-273-1700; E-mail: publicmeeting@nlrb.gov.

SUPPLEMENTARY INFORMATION: The National Labor Relations Board will hold an open public meeting on Monday, July 18, 2011, from 9 a.m. until 4 p.m. A second day of meetings may be scheduled for Tuesday, July 19, 2011, if necessary. Pursuant to 5 U.S.C. 553(c), the purpose of the meeting will be to allow interested persons to participate in the rulemaking through oral presentation on the proposed amendments to the Board's rules governing representation-case procedures and to make any other proposals for improving representation case procedures.

On June 22, 2011, the NLRB published a Notice of Proposed Rulemaking (NPRM) (76 FR 15307), proposing to amend its rules and regulations governing the filing and processing of petitions relating to the representation of employees for purposes of collective bargaining with their employer. In addition to the comment procedure outlined in the NPRM, the NLRB is providing another opportunity for interested persons to provide their views to the Board on this important matter at the open public meeting.

Persons desiring to attend the meeting must notify the NLRB staff, in writing, at the above listed physical or e-mail address, by the deadline posted. If the person desires to make a presentation to the Board at the meeting, he or she is required to submit a brief outline of the presentation when making the request. In lieu of making an oral presentation, or in addition to such a presentation, interested persons may submit a written statement for the record or utilize the comment process described in the NPRM.

To attend the meeting, all potential attendees must include in their request: (1) Their full name, (2) organizational affiliation (if any), and (3), if they are appearing in a representative capacity, the names of any individuals or organizations on whose behalf they are appearing. Attendees are reminded to bring a photo identification card with them to the public meeting in order to gain admittance to the building. Due to the time and potential space limitations in the meeting room, the NLRB will notify persons of their attendance and/or speaking status (i.e., preliminary date and time for their presentation) prior to the meeting. Time allocation for oral presentations will depend upon the number of persons who desire to make presentations to the Board. Persons making oral presentations should be prepared to summarize their written statements, if any, at the meeting. In the event that there are more requests for oral presentations than there are available time slots, the Board will allocate the available time slots in an effort to insure that a variety of viewpoints are represented at the hearing and that both individuals and organizations possessing substantial experience with and expertise concerning the Board's representation case procedures and members of the general public are heard. Subject to such allocations, available time slots will be assigned on a first-come-first-served basis.

Agenda: The meeting will be limited to issues related to the proposed amendments to the Board's rules governing representation-case procedures and other proposals for improving representation case procedures. A copy of the NPRM may also be obtained from the NLRB's Web site at: http://www.nlrb.gov/nprm.

Dated: June 21, 2011.
Wilma B. Liebman,
Chairman.

[FR Doc. 2011-15962 Filed 6-24-11; 8:45 am]

BILLING CODE 7545-01-P